FEDERAL MARITIME COMMISSION

Ocean Transportation Intermediary License Applicants

Notice is hereby given that the following applicants have filed with the Federal Maritime Commission an application for license as Non-Vessel Operating Common Carrier and Ocean Freight Forwarder—Ocean Transportation Intermediary pursuant to section 19 of the Shipping Act of 1984 as amended (46 U.S.C. app. 1718 and 46 CFR 515).

Persons knowing of any reason why the following applicant should not receive a license are requested to contact the Office of Transportation Intermediaries, Federal Maritime Commission, Washington, DC 20573.

Non-Vessel Operating Common Carrier Ocean Transportation Intermediary Applicants

Global Kwon Yoon, 1212 W. Gardena Blvd., #D, Gardena, CA 90247, Deuk Kwon Yoon, Sole Proprietor

Cosa Freight, Inc., 17800 Castleton Street, #695, City of Industry, CA 90740, Officers: Xia Zhang, Vice President (Qualifying Individual), James Zhang, President

Navetrans Corp. dba Costa Rica Carriers, 240 Crandon Blvd., Suite 203 A, Miami, FL 33149, Officers: Sahir Miguel Morales, Asst. Vice President (Qualifying Individual), Joachim Haubold, President

North Star Express, Inc., 2252 Beverly Blvd., Suite 204, Los Angeles, CA 90057, Officers: Leonardo B. Lucena, Marketing Director (Qualifying Individual), Eleuterio Gagar, President

A.S.L. Shipping Lines Inc. dba American Shipping Line, 2 East Valley Blvd., Suite 200 B, Alhambra, CA 91801, Officer: Michael Duong, President (Qualifying Individual)

Cargo Control Express, Inc. dba Ramses Logistics Co., 2782 Engel Drive, Los Alamitos, CA 90702, Officer: Christine Kim, President (Qualifying Individual)

AE Eagle America Inc., 155-04 145th Avenue, Jamaica, NY 11434, Officers: Davy NG, Secretary (Qualifying Individual), Milton Cheung, President

Cargozone Trans Corporation, 19550 Dominguez Hills Dr., Rancho Dominguez, CA 90220, Officers: Paul M. Kim, Secretary (Qualifying Individual), Byung Keun Han, President

North American Container Group, 6600 N. Lincoln Ave., Suite 3066, Lincolnwood, IL 60712, Mark M. Marcus, Sole Proprietor

Datacargo Co. Inc. dba Datacargo, 8235 N.W. 82nd Avenue, Miami, FL 33166, Officers: Luis Andres Sara, General Manager (Qualifying Individual), Maria Elena Gomez Ruggiero, Vice President

Alcon Express Corp., 179-30 149th Ave. Suite 105, Jamaica, NY 11434, Officers: Connie Jiang, Vice President (Qualifying Individual), Alan C. Wang, President

Allison Shipping International, Inc., 3906 Walnut Avenue, Long Beach, CA 90807, Officers: Donna B. Betts, CEO (Qualifying Individual), Rita R. Sehwani, Secretary

Awell Logistics Group, Inc., 2675C McCone Avenue, Hayward, CA 94545, Officers: Jack Huie, Vice President (Qualifying Individual), Shing Lan Hon, CEO

WP Logistics Inc., 1730 Park Lawn Road, Hacienda Heights, CA 91745, Officers: Joey Tam, Secretary (Qualifying Individual), Danny Tam, Vice President

Deltamax Freight System, Inc., 880 Lively Blvd., Elk Grove Village, IL 60007, Officers: Tien-Yu Wu, President (Qualifying Individual), Elise Wu, Secretary

Ireh Logistic Services Inc., 500 Carson Plaza Dr., Suite 202, Carson, CA 90746, Officer: Sunny Kang, CEO (Qualifying Individual)

ISI Express (N.Y.) Inc., 177-25 Rockaway Blvd., 207, Jamaica, NY 11434, Officers: Chia Yu Lee (Charlie) (Qualifying Individual), Stephen Fu, President

J C Trans (USA), Inc., 139 Mitchell Ave., Suite 223, South San Francisco, CA 94080, Officers: Tom Fan, Vice President (Qualifying Individual), Chung-Kwai Wan, President

KL Logistics Corp., 23509 Himber Place, Harbor City, CA 90710, Officer: Kenny Lee, CEO (Qualifying Individual)

Quality Express, Inc., 9620 S. La Cienega Blvd., Inglewood, CA 90301, Officers: Yukio Nakano, Vice President (Qualifying Individual), Joseph Cheng-Meng Lam, President

Star Airfreight Co., Ltd., 149-35 177th Street, 2/Fl., Jamaica, NY 11434, Officers: Anthony Chan, President (Qualifying Individual), Eddie T.C. Yau, Chairman/CEO

Peacock Group, Inc., 323 Claremont Street, Buchanan, MI 49107, Officer: David R. Gault, Chairman/President (Qualifying Individual)

Yurram Corp. dba Starliner Shipping & Travel, 5305 Church Avenue, Brooklyn, NY 11203, Officers: Nigel L. Murray, President (Qualifying Individual), Rhea Murray, Secretary

Bondex Air & Sea Logistic, Inc., 731 S. Garfield Avenue, 2nd Floor, Alhambra, CA 91801, Officers: Scott S.F. Wang, President (Qualifying Individual), Eva Chen, Vice President

Ecuamerica International, Inc., 5401-D Southern Comfort Blvd., Tampa, FL 33634, Michael De La Llana, President (Qualifying Individual), Susana Elvia De La Llana, Vice President

SeaMac Shipping Inc., 215 East Bay Street, Suite 201-I, Charleston, SC 29401, Officers: John Laban Sease, Vice President (Qualifying Individual), Thomas McInerney, President

Gateways International, Inc., 2030 First Avenue, Suite 200, Seattle, WA 98121-2112, Officers: Richard W. Curry, President (Qualifying Individual), George W. Pasha, IV, Vice President

Fredonia, Inc. dba Fredonia Cargo Lines, 478 Pennsylvania Ave., #301, Glen Ellyn, IL 60137, Officers: Frank Hollesen, President (Qualifying Individual), Kathy Hollesen, Treasury/Vice President

Non-Vessel Operating Common Carrier and Ocean Freight Forwarder Transportation Intermediary Applicants

Delex, Inc., 1326 McDonald Avenue, Brooklyn, NY 10033, Officer: Oleg Ardashev, President (Qualifying Individual)

Summit Cargo Group, Inc., 724 South Hindry Avenue, Inglewood, CA 90301, Officers: Tony Feist, Dir. of Operations (Qualifying Individual), Zachary Zemby, President

Kuhn Hay, Inc., 1625 Drew Road, El Centro, CA 92243, Officers: James E. Kuhn, President (Qualifying Individual), John Robert Kuhn, Director

Top Cargo Inc., 3537 NW 82nd Avenue, Miami, FL 33122, Officer: Damian J. Pelegrino, President (Qualifying Individual)

Sun Express International, Inc. dba BNX Shipping, Hawaii, 1188 Bishop Street, #1006, Honolulu, HI 96813, Officer: Sun Hee Lee, President (Qualifying Individual)

Dispatch Services Logistics Company, Inc., 479 West Sixth Street, Suite #203, San Pedro, CA 90731, Officers: Lee Phillip Meister, President (Qualifying Individual), Rose Fletcher, Secretary

EgeTrans USA, Inc., EgeTrans Atlantic Service, 729 North Route 83, Suite 304, Bensenville, IL 60106, Officers: Sandra L. Pattison, Vice President (Qualifying Individual), Peter Steinmuller, Dir./President

Nakamura Air Express (USA), Inc., 9432 Bellanca Ave., Suite 210, Los Angeles, CA 90045, Officers: Myungsil Yoo Francis, Corporate Secretary (Qualifying Individual)

Transunion America Inc., 66-00 Long Island Expressway, Suite 200, Maspeth, NY 11378, Officers: Geri S. Alex, Vice President (Qualifying Individual), Jose Viano, President

American Links Logistics International, Inc., 3591 Highland Drive, San Bruno, CA 94066, Officers: Letty Batacan, Import Manager (Qualifying Individual), Walfredo M. Enrico, President

Dated: December 7, 2001.
Theodore A. Zook,
Assistant Secretary.

[FR Doc. 01-30769 Filed 12-12-01; 8:45 am]

BILLING CODE 6730-01-P